DEPARTMENT OF TRANSPORTATION

Federal Aviation Administration

Notice of Intent To Rule on Application To Impose a Passenger Facility Charge (PFC) at Chicago O'Hare International Airport and To Use the Revenue at Chicago O'Hare International Airport, Chicago, IL, and Gary/Chicago Airport, Gary, IN

AGENCY: Federal Aviation Administration (FAA), DOT.

ACTION: Notice of intent to rule on application.

SUMMARY: The FAA proposes to rule and invites public comment on the application to impose a PFC at Chicago O'Hare International Airport and use the revenue at Chicago O'Hare International Airport and Gary/Chicago Airport under the provisions of the Aviation Safety and Capacity Expansion Act of 1990 (Title IX of the Omnibus Budget Reconciliation Act of 1990) (Public Law 101-508) and Part 158 of the Federal Aviation Regulations (14 CFR Part 158).

DATES: Comments must be received on or before March 5, 2000.

ADDRESSES: Comments on this application may be mailed or delivered in triplicate to the FAA at the following address: Federal Aviation Administration, Chicago Airports District Office, 2300 East Devon Avenue, Room 320, Des Plaines, Illinois 60018.

In addition, one copy of any comments submitted to the FAA must be mailed or delivered to Mr. Thomas R. Walker, Commissioner of the City of Chicago Department of Aviation at the following address: Chicago O'Hare International Airport, P.O. Box 66142, Chicago, IL 60666.

Air carriers and foreign air carriers may submit copies of written comments previously provided to the City of Chicago Department of Aviation under section 158.23 of part 158.

FOR FURTHER INFORMATION CONTACT: Mr. Thomas E. Salaman, Chicago Metropolitan Program Manager, Federal Aviation Administration, Chicago Airports District Office, 2300 East Devon Avenue, Room 320, Des Plaines, IL 60018, telephone (847) 294-7436. The application may be reviewed in person at this same location.

SUPPLEMENTARY INFORMATION: The FAA proposes to rule and invites public comment on the application to impose a PFC at Chicago O'Hare International Airport and use the revenue at Chicago O'Hare International Airport and Gary/Chicago Airport under the provisions of the Aviation Safety and Capacity Expansion Act of 1990 (Title IX of the Omnibus Budget Reconciliation Act of 1990) (Public Law 101-508) and Part 158 of the Federal Aviation Regulations (14 CFR Part 158).

On January 4, 2001, the FAA determined that the application to impose and use the revenue from a PFC submitted by the City of Chicago Department of Aviation was substantially complete within the requirements of section 158.25 of Part 158. The FAA will approve or disapprove the application, in whole or in part, no later than April 6, 2001.

The following is a brief overview of the application.

PFC application number: 01-12-C-00-ORD.

Level of the proposed PFC: $4.50.

Proposed charge effective date: April 1, 2001.

Revised proposed charge expiration date: July 1, 2014.

Total estimated PFC revenue: $880,183,000.00,

Brief description of proposed projects at the $4.50 level:

Impose Only at ORD: Airport Transit System (ATS) North Extension; ATS Maintenance Relocation; Zemke Road Extension; Concourse K Extension; Taxiway A/B Extension/Oil Water Separator Relocation; Hardstand Apron; Terminal Six Development; Terminals 1 and 2 Connection Expansion; Touhy Avenue Reservoir.

Impose and Use at ORD: World Gateway Program Formulation; Terminals 1, 2, and 3 Facade and Circulation Enhancement Improvements; Aircraft Rescue and Firefighting (ARFF)/Simulator Training Facility; Automatic Vehicle Identification—Ground Transportation; Terminal Five Upper Level Roadway Rehabilitation; Global Positioning System Antenna; Runway Deicing Fluid Facility Improvements; Runway Weather Sensors Upgrade; Service Road to General Aviation Apron; Land and Hold Short Operations Improvements; 360 Degree Silicon Graphics Incorporated Based Tower Simulator; Snow/Security/Fire Equipment; School Insulation—1999-2001; Residential Insulation—2000; Residential Insulation—2001; Perimeter Intrusion Detection System—Phase II.

Use at ORD: Snow Dump Improvement; Runway 14L/32R Rehabilitation; High Temp Water Piping: Eliminate Ball Joints; National Pollutant Discharge Eliminations System Permit Compliance.

Brief description of proposed project at the $3.00 level:

Use at Gary/Chicago: Acquisition of 1500-Gallon ARFF Vehicle; Terminal Renovation—Phase III.

Class or classes of air carriers which the public agency has requested not be required to collect PFCs: air taxi operators.

Any person may inspect the application in person at the FAA office listed above under FOR FURTHER INFORMATION CONTACT.

In addition, any person may, upon request, inspect the application, notice and other documents germane to the application in person at the City of Chicago Department of Aviation.

Issued in Des Plaines, Illinois, on January 23, 2001.
Benito De Leon,
Manager, Planning/Programming Branch, Airports Division, Great Lakes Region.

[FR Doc. 01-2854 Filed 2-1-01; 8:45 am]

BILLING CODE 4910-13-M